DEPARTMENT OF HOMELAND SECURITY

Coast Guard

[Docket No. USCG-2016-0056]

National Offshore Safety Advisory Committee

AGENCY: Coast Guard, DHS.

ACTION: Notice of Federal Advisory Committee meeting.

SUMMARY: The National Offshore Safety Advisory Committee and its Subcommittees will hold meetings in New Orleans, LA to discuss the safety of operations and other matters affecting the offshore oil and gas industry. These meetings are open to the public.

DATES: Subcommittees of the National Offshore Safety Advisory Committee will meet on Tuesday, March 29, 2016 from 1 p.m. to 4 p.m. and the full Committee will meet on Wednesday, March 30, 2016, from 8:30 a.m. to 5:30 p.m. (All times are Central Standard Time). These meetings may end early if the Committee has completed its business, or they may be extended based on the number of public comments.

ADDRESSES: The meetings will be held at the Omni Riverfront Hotel at 701 Convention Center Blvd., New Orleans, LA 70130, (504) 524-8200, http://www.omnihotels.com/hotels/new-orleans-riverfront.

For information on facilities or services for individuals with disabilities, or to request special assistance at the meetings, contact the individuals listed in FOR FURTHER INFORMATION CONTACT section, as soon as possible.

To facilitate public participation, we are inviting public comment on the issues to be considered by the Committee as listed in the “Agenda” section below. Written comments for distribution to Committee members must be submitted no later than March 16, 2016, if you want the Committee members to be able to review your comments before the meeting, and must be identified by docket number USCG-2016-0056. Written comments may be submitted using the Federal e-Rulemaking Portal at http://www.regulations.gov. If your material cannot be submitted using http://www.regulations.gov, contact the person in the FOR FURTHER INFORMATION CONTACT section of this document for alternate instructions.

Instructions: All submissions received must include the words “Department of Homeland Security” and the docket number for this action. Comments received will be posted without alteration at http://www.regulations.gov, including any personal information provided. You may review a Privacy Act notice regarding the Federal Docket Management System in the March 24, 2005, issue of the Federal Register (70 FR 15086).

Docket: For access to the docket or to read documents or comments related to this notice, go to http://www.regulations.gov, insert USCG-2016-0056 in the Search box, press Enter, and then click on the item you wish to view.

A public oral comment period will be held during the meeting on March 30, 2016, and speakers are requested to limit their comments to 3 minutes. Contact one of the individuals listed below to register as a speaker.

FOR FURTHER INFORMATION CONTACT: Commander Jose Perez, Designated Federal Officer of the National Offshore Safety Advisory Committee, Commandant (CG-OES-2), U.S. Coast Guard, 2703 Martin Luther King Jr. Avenue SE. Stop 7509, Washington, DC 20593-7509; telephone (202) 372-1410, fax (202) 372-8382 or email jose.a.perez3@uscg.mil, or Mr. Pat Clark, telephone (202) 372-1358, fax (202) 372-8382 or email Patrick.w.clark@uscg.mil.

SUPPLEMENTARY INFORMATION: Notice of this meeting is given under the Federal Advisory Committee Act, Title 5 United States Code Appendix. The National Offshore Safety Advisory Committee provides advice and recommendations to the Department of Homeland Security on matters and actions concerning activities directly involved with or in support of the exploration of offshore mineral and energy resources insofar as they relate to matters within U.S. Coast Guard jurisdiction.

A copy of all meeting documentation will be available at https://homeport.uscg.mil/nosac no later than March 16, 2016. Alternatively, you may contact Mr. Pat Clark as noted in the FOR FURTHER INFORMATION CONTACT section above.

Agenda

Day 1

The National Offshore Safety Advisory Subcommittee on Cyber Security on the Outer Continental Shelf will meet on March 29, 2016 from 1 p.m. to 2 p.m. to review, discuss, and formulate recommendations. Following this Subcommittee meeting, the Towing of Mobile Offshore Drilling Unit Subcommittee will meet from 2:00 p.m. to 3:00 p.m. and then the Well Intervention Subcommittee will meet from 3:00 p.m. to 4:00 p.m.

Day 2

The National Offshore Safety Advisory full Committee will hold a public meeting on March 30, 2016 from 8:30 a.m. to 5:30 p.m. to review and discuss the progress of the Subcommittees and any reports and recommendations received from the above listed Subcommittees from their deliberations on March 29, 2016. The Committee will then use this information and consider public comments in formulating recommendations to the U.S. Coast Guard. Public comments or questions will be taken at the discretion of the Designated Federal Officer during the discussion and recommendation portions of the meeting and during the public comment period, see Agenda item (6).

A complete agenda for March 30, 2016 Committee meeting is as follows:

(1) Welcoming remarks.

(2) General Administration; swear in new members and accept minutes from November 2015 National Offshore Safety Advisory Committee public meeting.

(3) Current Business—Presentation and discussion of updates and any final reports to include recommendations from the Subcommittees on Cyber Security, Towing of Mobile Offshore Drilling Units and Well Intervention.

(4) New Business

(a) Discussion of any new business items.

(5) Presentations and discussions on the following matters:

(a) Actions on previous National Offshore Safety Advisory Committee recommendations to the Coast Guard;

(b) DP Assurance—vessels conducting Critical Activity Modes (CAMO) and Well Intervention Activities;

(c) Update from the International Association of Drilling Contractors; and

(d) Update on activities from the Eighth Coast Guard District's Officer in Charge of Marine Inspection for the Outer Continental Shelf.

(6) Public comment period.

The agenda, any draft final reports, new task statements and presentations will be available by March 16, 2016 at the https://homeport.uscg.mil/nosac Web site or by contacting Mr. Pat Clark in the FOR FURTHER INFORMATION CONTACT.

Minutes

Meeting minutes from this public meeting will be available for public view and copying within 90 days following the close of the meeting at the https://homeport.uscg.mil/nosac Web site.

Dated: February 4, 2016.
J. G. Lantz,
Director of Commercial Regulations and Standards, United States Coast Guard.

[FR Doc. 2016-02779 Filed 2-10-16; 8:45 am]

BILLING CODE 9110-04-P